DEPARTMENT OF DEFENSE

Office of the Secretary

[Docket No. DoD-2008-OS-0016]

Proposed Collection; Comment Request

AGENCY: Defense Finance and Accounting Service, DoD.

ACTION: Notice.

SUMMARY: In compliance with Section 3506(c)(2)(A) of the Paperwork Reduction Act of 1995, the Defense Finance and Accounting Service announces a proposed public information collection and seeks public comment on the provisions thereof. Comments are invited on: (a) Whether the proposed collection of information is necessary for the proper performance of the functions of the agency, including whether the information shall have practical utility; (b) the accuracy of the agency's estimation of the burden of the proposed information collection; (c) ways to enhance the quality, utility and clarity of the information to be collected; and (d) ways to minimize the burden of the information collection on respondents, including through the use of automated collection techniques or other forms of information technology.

DATES: Consideration will be given to all comments received by March 26, 2012.

ADDRESSES: You may submit comments, identified by docket number and title, by any of the following methods:

Federal eRulemaking Portal: http://www.regulations.gov. Follow the instructions for submitting comments.

Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Disbursing Management Policy Division, Defense Finance and Accounting Service Kansas City, DFAS-NPD/KC, 1500 E. 95th Street, Kansas City, MO 64197-0030, or call at (816) 926-3600.

Title, Associated Form, and OMB Number: Application Form for Department of Defense (DoD) Stored Value Card (SVC) Programs; DD Form 2887; OMB Control Number 0730-0016.

Needs and Uses: Department of Defense (DoD) Financial Management Regulation 7000.14-R, Volume 5, requires that eligible individuals desiring to enroll in the Navy/Marine Corps Cash and the EagleCash program complete the DD Form 2887. Also used to authorize the transfer of funds from their personal bank accounts to the SVC for the Navy/Marine Cash Program and to provide a means to effect immediate checkage of the individual's pay if a debt occurs.

Affected Public: Individuals or Households; Business or Other For-Profit; Not-for-Profit Institutions; State, Local or Tribal Government.

Annual Burden Hours: 7,416 hours.

Number of Respondents: 44,500.

Responses Per Respondent: 1.

Average Burden Per Response: 10 minutes.

Frequency: On occasion.

SUPPLEMENTARY INFORMATION:

Summary of Information Collection

The Application Form for DoD SVC Programs is used to ascertain pertinent information needed by DoD in order to have the authorization for the transfer of funds from a financial institution to the SVC and to obtain an agreement from the individual for the immediate checkage of their pay in the event a debt to the United States Government occurs.

Dated: January 31, 2012.
Patricia L. Toppings,
OSD Federal Register Liaison Officer, Department of Defense.

[FR Doc. 2012-3519 Filed 2-14-12; 8:45 am]

BILLING CODE 5001-06-P